DEPARTMENT OF COMMERCE

International Trade Administration

[A-475-703]

Certain Granular Polytetrafluoroethylene Resin From Italy: Rescission of Antidumping Duty Administrative Review; 2011-2012

AGENCY: Import Administration, International Trade Administration, Department of Commerce.

SUMMARY: In response to a request from an interested party, the Department of Commerce (“the Department”) initiated an administrative review of the antidumping duty order on certain granular polytetrafluoroethylene (“PTFE”) resin from Italy. The period of review is August 1, 2011, through July 31, 2012. Based on the withdrawal of the request for review, we are now rescinding this administrative review.

DATES: Effective Date: February 19, 2013.

FOR FURTHER INFORMATION CONTACT: Mary Kolberg or Yasmin Nair, AD/CVD Operations, Office 1, Import Administration, International Trade Administration, U.S. Department of Commerce, 14th Street and Constitution Avenue NW., Washington, DC 20230; telephone: (202) 482-1785 or (202) 482-3183, respectively.

SUPPLEMENTARY INFORMATION:

Background

Pursuant to a request by Industrial Plastics and Machine, Inc. (“Industrial Plastics”), a U.S. importer of subject merchandise, the Department initiated an administrative review of Guarniflon SpA, an Italian producer and exporter of the subject merchandise.¹ Industrial Plastics withdrew its request for an administrative review of Guarniflon SpA on December 26, 2012.²

¹ See Initiation of Antidumping and Countervailing Duty Administrative Reviews and Request for Revocation in Part, 77 FR 59168 (September 26, 2012).

² See Letter from Industrial Plastics and Machine, Inc. to the Department, dated December 26, 2012, at 1.

Rescission of Review

Pursuant to 19 CFR 351.213(d)(1), the Secretary will rescind an administrative review, in whole or in part, if the parties that requested a review withdraw the request within 90 days of the date of publication of the notice of initiation of the requested review. As noted above, Industrial Plastics withdrew its request for review of Guarniflon SpA within 90 days of the date of publication of the notice of initiation. No other parties requested a review. Therefore, in accordance with 19 CFR 351.213(d)(1), we are rescinding this review in its entirety.

Assessment

The Department will instruct U.S. Customs and Border Protection (“CBP”) to assess antidumping duties on all entries. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notification to Importers

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Notification Regarding Administrative Protective Order

This notice serves as a final reminder to parties subject to administrative protective order (“APO”) of their responsibility concerning the return or destruction of proprietary information disclosed under an APO in accordance with 19 CFR 351.305(a)(3). Timely written notification of the return or destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: February 11, 2013.
Christian Marsh,
Deputy Assistant Secretary for Antidumping and Countervailing Duty Operations.

[FR Doc. 2013-03745 Filed 2-15-13; 8:45 am]

BILLING CODE 3510-DS-P